DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the control of the Thomas Burke Memorial Washington State Museum (Burke Museum), University of Washington, Seattle, WA. The human remains were removed from Kettle Falls in Stevens County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum professional staff in consultation with representatives of the Confederated Tribes of the Colville Reservation, Washington and Spokane Tribe of the Spokane Reservation, Washington.

In 1931, human remains representing a minimum of three individuals were removed from the east end of Kettle Falls state bridge in Stevens County, WA. The human remains were removed by Verne Ray who identified the burial as a “Colville burial.” Museum accession records do not state how this determination was made. The human remains were accessioned by the Burke Museum in 1931 (Burke Accession. #2562). No known individuals were identified. No associated funerary objects are present.

Based on the geographic and accession documentation, the preponderance of evidence demonstrates that the three individuals are of Native American ancestry. Kettle Falls has been a historically important center for fishing and trading for Native Americans (Ruby and Brown 1986:36). Kettle Falls is located within the aboriginal territory of the Confederated Tribes of the Colville Reservation, Washington. Early and late ethnographic sources identify Kettle Falls as an area associated with either the Colville or the Lakes tribes or bands (Kennedy and Bouchard 1998; Mooney 1896; Ray 1936; Spier 1936; Swanton 1952). Both the Colville and the Lakes tribes were part of the twelve tribes or bands that comprise the Confederated Tribes of the Colville Reservation, Washington. The Colville Reservation was created by Executive Order in 1872. Descendants of the Colville and Lakes tribes are members of the Confederated Tribes of the Colville Reservation, Washington.

Officials of the Burke Museum have determined that, pursuant to 25 U.S.C. 3001 (9-10), the human remains described above represent the physical remains of three individuals of Native American ancestry. Officials of the Burke Museum also have determined that, pursuant to 25 U.S.C. 3001 (2), there is a relationship of shared group identity that can be reasonably traced between the Native American human remains and the Confederated Tribes of the Colville Reservation, Washington.

Representatives of any other Indian tribe that believes itself to be culturally affiliated with the human remains should contact Dr. Peter Lape, Burke Museum, University of Washington, Box 353010, Seattle, WA 98195-3010, telephone (206) 685-2282, before September 18, 2006. Repatriation of the human remains to the Confederated Tribes of the Colville Reservation, Washington may proceed after that date if no additional claimants come forward.

The Burke Museum is responsible for notifying the Confederated Tribes of the Colville Reservation, Washington and Spokane Tribe of the Spokane Reservation, Washington that this notice has been published.

Dated: July 24, 2006
Sherry Hutt,
Manager, National NAGPRA Program.

[FR Doc. E6-13604 Filed 8-16-06; 8:45 am]

BILLING CODE 4312-50-S